OFFICE OF MANAGEMENT AND BUDGET

Public Availability of Year 2000 Agency Inventories Under the Federal Activities Inventory Reform Act of 1998 (Public Law 105-270) (“FAIR Act”)

AGENCY: Office of Management and Budget, Executive Office of the President.

ACTION: Notice of public availability of commercial activities inventories.

SUMMARY: Commercial Activities Inventories are now available to the public from the agencies listed below, in accordance with the “Federal Activities Inventory Reform Act of 1998” (Public Law 105-270) (“FAIR Act”). This is the third and final notification of the release of the 2000 FAIR Act inventories. In addition, the Office of Federal Procurement Policy has prepared and has made available a summary FAIR Act User's Guide through its Internet site: http://www.whitehouse.gov/OMB/procurement/index.html. This User's Guide will help interested parties review 2000 FAIR Act inventories, and will also include the web-site addresses to access agency inventories.

The FAIR Act requires that OMB publish an announcement of public availability of agency Commercial Activities Inventories upon completion of OMB's review and consultation process concerning the content of the agencies' inventory submissions. OMB has now completed this process for the year 2000.

The attached Commercial Activities Inventories are now available.

Mitchell E. Daniels, Jr.,
Director.

Attachment.

Agency Contact

Department of Agriculture (OIG): Del Thornsbury, 202-720-4414; Website: www.usda.gov/oig

American Battle Monuments Commission: Anthony Corea, 703-696-6898; Website: www.usabmc.com

Arlington National Cemetery: Rory Smith, 703-614-5060; Website: www.arlingtoncemetery.org/

Armed Forces Retirement Home: Rick Coleman, 202-730-3504; Website: www.afrh.com/FY00FAIR.htm

Central Intelligence Agency: CIA Office of Public Affairs, 703-482-0623; No website available.

Department of Defense: Paul Solomon, 703-917-7431; Website: http://gravity.lmi.org/dodfair

Department of Defense (OIG): Wayne Berry, 703-604-8789; Website: www.dodig.osd.mil

Defense Nuclear Facilities Standard Board: Andrew Thibadeau, 202-694-7000; Website: www.dnfsb.gov

Department of Energy: Mark R. Hively, 202-586-5655; Website: www.pr.doe.gov/a76.htm

Farm Credit Administration: Phillip Shebest, 703-883-4146; Website: www.fca.gov

Federal Communications Commission: Mark Reger, 202-418-1925; Website: www.fcc.gov/omd/Reports/Fairact.doc

Federal Communications Commission (OIG): H. Walker Feaster, III, 202-418-1925; Website: www.fcc.gov/oig/#annual

Federal Energy Regulatory Commission: Donald Shamley, 202-208-1088; Website: www.ferc.fed.us

Federal Financial Institutions Examinations Council Appraisal Subcommittee: Marc L. Weinberg, 202-872-7520; Website: www.asc.gov

Federal Housing Finance Board: David A. Lee, 202-408-2514; Website: www.fhfb.gov

Federal Maritime Commission: Bruce Dombrowski, 202-523-5800; Website: www.fmc.gov

Federal Trade Commission: Elliott Davis, 202-326-2022; Website: www.ftc.gov

Department of Housing and Urban Development (OIG): Stanley J. McLeod, 202-708-3444, ext. 156; Website: www.hud.gov/oig/oigindex.html

Department of the Interior: Jennings Wong, 202-208-6704; Website: www.ios.doi.gov/pam/pamhome.html

Department of the Interior (OIG): Richard Farr, 202-208-4599; Website: www.oig.doi.gov

Department of Justice: Larry Silvis, 202-616-3754; Website: http://www.usdoj.gov/jmd/pe/preface.htm

Department of Labor: Al Stewart, 202-693-4021; Website: www.dol.gov

Morris Udall Foundation: Chris Helms, 520-670-5299; Website: www.Udall.gov

National Aeronautics and Space Administration (OIG): Charles Heaton, 202-358-2561; Website: www.hq.nasa.gov/fair/

National Archives and Records Administration: Lori Lasowski 301-713-7360, ext. 257; Website: www.nara.gov/nara/co_farep

National Archives and Records Administration (OIG): James Springs, 301-713-7300, ext. 224; Website: www.nara.gov

National Capital Planning Commission: BeLinda Hollman, 202-482-7200; Website: www.ncpc.gov

National Credit Union Administration: Jared Barlage, 202-416-8721; Website: www.ncua.gov

National Endowment of the Humanities: Barry Maynes, 202-606-8233; Website: www.neh.gov

National Transportation Safety Board: Bill Love, 202-314-6088; Website: www.ntsb.gov/acquire/NTSB_MN.htm

Nuclear Regulatory Commission: Ronald Thompson, 301-415-6732; Website: www.nrc.gov/ADM/CONTRACT/contract.html

Nuclear Regulatory Commission (OIG): David C. Lee, 301-415-5930; Website: www.nrc.gov/nrc/oig/fair/index.html

Nuclear Waste Technical Review Board: Dr. William Barnard, 703-235-4473; Website: www.nwtrb.gov

Office of Navaho and Hopi Indian Relocation: Michael J. McAlister, 520-779-2721; No website available

Securities and Exchange Commission: Jayne Seidman, 202-942-4000; Website: www.sec.gov

Selective Service System: Calvin Montgomery, 703-605-4038; Website: www.sss.gov

Small Business Administration: Theodore Wartell, 202-205-7307; Website: www.sba.gov

Small Business Administration (OIG): Bridget Bean, 202-205-6580; Website: www.sba.gov/ig

Social Security Administration: Phil Kelly, 410-965-4656; Website: www.ssa.gov/budget

Department of State: Robert McFadden, 202-647-7780; Website: www.state.gov/www/dept/fmp/related_sites.html

Department of Transportation: Bill Moga, 202-366-9666; Website: www.dot.gov

Department of Transportation (OIG): Sam Davis, 202-366-1444; Website: www.oig.dot.gov

Department of the Treasury: Kevin Whitfield, 202-622-0248; Website: http://www.treas.gov/fair

Department of the Treasury (OIG): Primary: Robert Hardos, 202-927-5200, Secondary: Donna Ching, 202-927-5374; Website: www.treas.gov/fair/2000/oig2000.pdf

Department of the Treasury (Tax): Agapi Doulaveris, 202-622-3968; Website: www.treas.gov/fair/2000/index.html

U.S. Commission on Civil Rights: George Harbison, 202-376-8356; Website: www.usccr.gov

U.S. Commodity Futures Trading Commission: Emory Bevill, 202-418-5187; Website: www.cftc.gov/ofm/fairactexhibit.pdf

U.S. International Trade Commission: Charles W. Sole, Jr., 202-205-2746; Website: www.usitc.gov/procurement/fair.pdf

U.S. Patent and Trademark Office: Daniel Haigler, 703-305-8175; Website: www.uspto.gov

[FR Doc. 01-3396 Filed 2-8-01; 8:45 am]

BILLING CODE 3110-01-P